SMALL BUSINESS ADMINISTRATION

[Disaster Declaration # 10123 and # 10124]

Florida Disaster # FL-00002

AGENCY: U.S. Small Business Administration.

ACTION: Notice.

SUMMARY: This is a notice of an Administrative declaration of a disaster for the State of Florida, dated 04/29/2005.

Incident: Severe storms, flooding, and Tornadoes.

Incident Period: 03/31/2005 through 04/07/2005.

Dates: Effective Date: 04/29/2005.

Physical Loan Application Deadline Date: 06/29/2005.

EIDL Loan Application Deadline Date: 01/25/2006.

ADDRESSES: Submit completed loan applications to :

U.S. Small Business Administration, Disaster Area Office 1, 360 Rainbow Blvd. South 3rd Floor, Niagara Falls, NY 14303.

FOR FURTHER INFORMATION CONTACT: A. Escobar, Office of Disaster Assistance, U.S. Small Business Administration, 409 3rd Street, Suite 6050, Washington, DC 20416.

SUPPLEMENTARY INFORMATION: Notice is hereby given that as a result of the Administrator's disaster declaration on 04/29/2005 , applications for disaster loans may be filed at the address listed above or other locally announced locations.

The following areas have been determined to be adversely affected by the disaster:

Primary Counties:

Escambia, Marion, and Santa Rosa.

Contiguous Counties:

Florida: Alachua, Citrus, Lake, Levy, Okaloosa, Putnam, Sumter, and Volusia.

Alabama: Baldwin and Escambia.

The Interest Rates are:

| Percent
Homeowners with credit available elsewhere | 5.875
Homeowners without credit available elsewhere | 2.937
Businesses with credit available elsewhere | 6.000
Businesses & small agricultural cooperatives without credit available elsewhere | 4.000
Other (including non-profit organizations) with credit available elsewhere | 4.750
Businesses and non-profit organizations without credit available elsewhere | 4.000

The number assigned to this disaster for physical damage is 10123 6 and for economic injury is 10124 0.

The States which received EIDL Decl # are Florida and Alabama.

(Catalog of Federal Domestic Assistance Numbers 59002 and 59008)
Dated: April 29, 2005.
Hector V. Barreto,
Administrator.

[FR Doc. 05-11960 Filed 6-16-05; 8:45 am]

BILLING CODE 8025-01-P